DEPARTMENT OF TRANSPORTATION

Coast Guard

33 CFR Part 117

[CGD08-00-024]

Drawbridge Operating Regulation; Bayou Du Large, LA

AGENCY: Coast Guard, DOT.

ACTION: Notice of temporary deviation from regulations.

SUMMARY: The Commander, Eighth Coast Guard District has issued a temporary deviation from the regulation in 33 CFR 117 governing the operation of the swing span bridge across Bayou Du Large, mile 22.6, at Theriot, Louisiana. This deviation allows the Terrebonne Parish Consolidated Government to close the bridge to navigation from 6 a.m. on September 22, 2000 through 7 p.m. on October 1, 2000. Presently, the draw is required to open on signal. This temporary deviation is issued to allow for repairs to be made to the pivot pier substructure and foundation.

DATES: This deviation is effective from 6 a.m. on September 22, 2000 through 7 p.m. on October 1, 2000.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The Brady Road swing span bridge across Bayou Du Large, mile 22.6, near Theriot, Terrebonne Parish, Louisiana, has a vertical clearance of 5 feet above high water in the closed-to-navigation position and unlimited clearance in the open-to-navigation position. Navigation on the waterway consists primarily of fishing vessels, and recreational craft. The Terrebonne Parish Consolidated Government requested a temporary deviation from the normal operation of the drawbridge in order to accommodate the maintenance work, involving jacking up the swing span and driving new foundation pilings to support and level the pivot pier. This maintenance is essential for the continued operation of the bridge.

This deviation allows the draw of the Brady Road swing span drawbridge across Bayou Du Large, mile 22.6, to remain closed to navigation from 6 a.m. on September 22, 2000 through 7 p.m. on October 1, 2000.

Dated: August 30, 2000.
Paul J. Pluta,
Rear Admiral, U.S. Coast Guard, Commander, Eighth Coast Guard District.

[FR Doc. 00-23262 Filed 9-8-00; 8:45 am]

BILLING CODE 4910-15-U